DEPARTMENT OF HEALTH AND HUMAN SERVICES

Centers for Disease Control and Prevention

[30Day-23-22CC]

Agency Forms Undergoing Paperwork Reduction Act Review

In accordance with the Paperwork Reduction Act of 1995, the Centers for Disease Control and Prevention (CDC) has submitted the information collection request titled “Assessment for the Be Antibiotics Aware (BAA) Consumer and Healthcare Professional Campaign” to the Office of Management and Budget (OMB) for review and approval. CDC previously published a “Proposed Data Collection Submitted for Public Comment and Recommendations” notice on January 31, 2022, to obtain comments from the public and affected agencies. CDC received one comment related to the previous notice. This notice serves to allow an additional 30 days for public and affected agency comments.

CDC will accept all comments for this proposed information collection project. The Office of Management and Budget is particularly interested in comments that:

(a) Evaluate whether the proposed collection of information is necessary for the proper performance of the functions of the agency, including whether the information will have practical utility;

(b) Evaluate the accuracy of the agencies estimate of the burden of the proposed collection of information, including the validity of the methodology and assumptions used;

(c) Enhance the quality, utility, and clarity of the information to be collected;

(d) Minimize the burden of the collection of information on those who are to respond, including, through the use of appropriate automated, electronic, mechanical, or other technological collection techniques or other forms of information technology, e.g., permitting electronic submission of responses; and

(e) Assess information collection costs.

To request additional information on the proposed project or to obtain a copy of the information collection plan and instruments, call (404) 639-7570. Comments and recommendations for the proposed information collection should be sent within 30 days of publication of this notice to www.reginfo.gov/public/do/PRAMain. Find this particular information collection by selecting “Currently under 30-day Review—Open for Public Comments” or by using the search function. Direct written comments and/or suggestions regarding the items contained in this notice to the Attention: CDC Desk Officer, Office of Management and Budget, 725 17th Street NW, Washington, DC 20503 or by fax to (202) 395-5806. Provide written comments within 30 days of notice publication.

Proposed Project

Assessment for the Be Antibiotics Aware (BAA) Consumer and Healthcare Professional Campaign—New—National Center for Emerging and Zoonotic Infectious Diseases (NCEZID), Centers for Disease Control and Prevention (CDC).

Background and Brief Description

Antibiotic resistance (AR) is one of the most urgent threats to public health in the United States. Antibiotic resistant bacteria have grown more virulent, prevalent, and diverse and can spread between human and animals. Each year there are more than 2.8 million antibiotic-resistant infections in the United States and 35,000 individuals die as a result. At least 30% of antibiotics prescribed to outpatients and emergency departments are unnecessary which amounts to 47 million excess prescriptions per year. One of the main side effects of taking antibiotics is alteration of the microbiome which could lead to infections such as C. difficile, the inability to treat infections, prolonged illness, or even death. Risk factors for AR include lack of knowledge, sub-therapeutic doses, excessive use, antibiotic residues, and incorrect storage. In addition, there can be impacts on productivity, healthcare costs, and it can serve as a drain on the economy.

The National Action Plan calls for federal agencies to accelerate their response to AR. The 2020-2025 National Action Plan calls for CDC to decrease healthcare-associated AR infections by 20% by 2025 and community-acquired AR infections by 10% by 2025. One way to decrease the use of unnecessary antibiotic prescriptions is through antibiotic stewardship. The goals of the Be Antibiotics Aware campaign are to seek optimization of antibiotic prescribing and use in order to improve patient safety and healthcare quality, and to combat AR by raising knowledge and awareness, and motivating behavior change among consumer and healthcare professional (HCP) audiences.

Online panel surveys will be utilized to recruit participants. Surveys will be distributed to consumer and HCP audiences both pre- and post-campaign. Consumer audiences include:

(1) Healthy adults who visit urgent care, ages 18-64,

(2) Community dwelling older adults, ages 65+, and

(3) Family caregivers of nursing home (long-term care) residents.

HCP audiences include:

(1) Hospitalists,

(2) Dentists,

(3) Community pharmacists,

(4) Physicians and advanced practice providers in nursing homes, and

(5) Nurses in nursing homes.

This program evaluation will assist CDC in determining if the Be Antibiotics Aware media campaign, along with partner outreach, was successful in raising knowledge and awareness and motivating behavior change among the intended consumer and HCP audiences in select markets. The information gathered from this evaluation will also be used to inform refinement and implementation of the campaign (materials and tactics).

CDC requests OMB approval for an estimated 842 annual burden hours. There is no cost to respondents other than their time to participate.

Estimated Annualized Burden Hours
Type of respondents | Form name | Number of respondents | Number of responses per respondent | Average burden per response (in hours)
Consumer Audiences | BAA Consumer Pre-Campaign Web Survey | 473 | 1 | 20/60
Consumer Audiences | BAA Consumer Post-Campaign Web Survey | 473 | 1 | 20/60
HCP Audiences | BAA HCP | 788 | 1 | 20/60
Consumer Audiences | BAA Consumer Pre-Campaign Web Survey | 473 | 1 | 20/60
| Pre-Campaign Web Survey |  |  |
HCP Audiences | BAA HCP Post-Campaign Web Survey | 788 | 1 | 20/60

Jeffrey M. Zirger,
Lead, Information Collection Review Office, Office of Scientific Integrity, Office of Science, Centers for Disease Control and Prevention.

[FR Doc. 2022-22502 Filed 10-14-22; 8:45 am]

BILLING CODE 4163-18-P